DEPARTMENT OF HEALTH AND HUMAN SERVICES

Centers for Disease Control and Prevention

[60Day-24-1316; Docket No. CDC-2023-0084]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Aerosols from Harmful Algal Blooms: Exposures and Health Effects in Highly Exposed Populations. The goal of this study is to conduct exploratory analyses of the relationships between HAB-related biomonitoring data, environmental data, and symptom reporting.

DATES: CDC must receive written comments on or before December 15, 2023.

ADDRESSES: You may submit comments, identified by Docket No. CDC-2023-0084 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Aerosols from Harmful Algal Blooms: Exposures and Health Effects in Highly Exposed Populations (OMB Control No. 0920-1316, Exp. 1/31/2024)—Extension—National Center for Environmental Health (NCEH), Centers for Disease Control and Prevention (CDC).

Background and Brief Description

Human exposures to HAB toxins (harmful algal blooms, or HABS, include marine microalgae; marine macroalgae, such as seaweeds; and cyanobacteria, also called blue-green algae) have been reported to produce a variety of health effects, including respiratory irritation and liver and kidney damage. The goal of this study is to conduct exploratory analyses of the relationships between biomonitoring data, environmental data, and symptom reporting. CDC anticipates this research to be hypothesis generating, and not necessarily generalizable to participants with similar exposures in the same population or to the public more generally.

HABs and associated environmental impacts (e.g., geographic and temporal extent, composition, toxin production) are difficult, if not impossible to predict and track. This project was developed in response to community health concerns reported during a severe cyanobacterial bloom in 2018. Since then, there have not been any significant blooms, and CDC has been unable to implement the study. As such, during the first three years of approval for this data collection, CDC was unable to align the physical occurrence of a specific type of HAB, a cyanobacterial bloom, of significant magnitude with government approvals and resource commitments. The program requests an Extension of OMB approval to allow us to implement the study during the next substantial HAB that occurs in Florida whether it comprises cyanobacteria, marine microalgae, or seaweed.

The total number of respondents is 486, which is unchanged from the previously approved number of respondents. The total estimated annualized time burden is 1,273 hours. Participation is voluntary and there are no costs to respondents other than their time.

Estimated Annualized Burden Hours
Type of respondents | Form name | Number of respondents | Number of responses per respondent | Average burden per response (in hours) | Total burden (in hours)
Interested community members | Screening/baseline Survey | 84 | 1 | 15/60 | 21
Eligible study respondents | Symptom Survey | 67 | 10 | 15/60 | 167
Eligible study respondents | Record of Time Spent Outdoors | 67 | 5 | 10/60 | 56
Eligible study respondents | Provide blood specimen | 67 | 3 | 15/60 | 51
Eligible study respondents | Provide specimens (urine, nasal swabs, lung function test) | 67 | 10 | 1 | 670
Eligible study respondents | Be outfitted with personal air sampler | 67 | 5 | 45/60 | 252
Eligible study respondents | Provide fish (if respondent went fishing and caught fish) | 67 | 5 | 10/60 | 56
Total |  |  |  |  | 1,273

Jeffrey M. Zirger,
Lead, Information Collection Review Office, Office of Public Health Ethics and Regulations, Office of Science, Centers for Disease Control and Prevention.

[FR Doc. 2023-22779 Filed 10-13-23; 8:45 am]

BILLING CODE 4163-18-P